DEPARTMENT OF COMMERCE

National Oceanic and Atmospheric Administration

50 CFR Part 622

[Docket No. 061124308-6308-01; I.D. 101906C]

RIN 0648-AV02

Fisheries of the Caribbean, Gulf of Mexico, and South Atlantic; Coastal Migratory Pelagic Resources of the Atlantic; Commercial King Mackerel Fishery of the Atlantic; Consideration of a Control Date

AGENCY: National Marine Fisheries Service (NMFS), National Oceanic and Atmospheric Administration (NOAA), Commerce.

ACTION: Advance notice of proposed rulemaking; request for comments.

SUMMARY: This notice announces that the South Atlantic Fishery Management Council (SAFMC) is considering additional management measures to further limit the number of participants or levels of participation in the commercial fishery for Atlantic group king mackerel in the exclusive economic zone (EEZ) of the South Atlantic and Mid-Atlantic region. If such management measures are implemented, the SAFMC is considering June 15, 2004, as a possible control date where anyone who entered the fishery after that date would not be assured of future access.

DATES: Comments must be received by January 4, 2007.

ADDRESSES: You may submit comments by any of the following methods:

• E-mail: 0648-AV02.ANPR@noaa.gov. Include in the subject line of the e-mail comment the following document identifier: “0648-AV02”.

• Federal e-Rulemaking Portal: http://www.regulations.gov. Follow the instructions for submitting comments.

• Mail: Steve Branstetter, Southeast Regional Office, NMFS, 263 13th Avenue South, St. Petersburg, FL 33701.

• Fax: 727-824-5308.

FOR FURTHER INFORMATION CONTACT: Steve Branstetter, 727-824-5305.

SUPPLEMENTARY INFORMATION: The commercial fishery for Atlantic group king mackerel in the South Atlantic and Mid-Atlantic EEZ is managed under the Fishery Management Plan for the Coastal Migratory Pelagic Resources of the Gulf of Mexico and South Atlantic Region (FMP). The SAFMC has approval from the Mid-Atlantic Fishery Management Council (MAFMC) to manage Atlantic group king mackerel in the Mid-Atlantic region. The FMP was prepared jointly by the SAFMC and the Gulf of Mexico Fishery Management Council (GMFMC), with the approval of the MAFMC, and implemented under the authority of the Magnuson-Stevens Fishery Conservation and Management Act.

The SAFMC anticipates that future action may be necessary to further control effort or participation in the Atlantic group king mackerel fishery through additional management actions. The SAFMC has concerns about future shifts in fishing effort that would increase catches of Atlantic group king mackerel in the South Atlantic and Mid-Atlantic EEZ, and wants to prevent the possibility of excess harvesting capacity developing for the Atlantic group king mackerel fishery. Should the SAFMC and GMFMC take future action to restrict participation in the fishery for Atlantic group king mackerel, they may use June 15, 2004, as a possible control date. This control date replaces an existing control date of October 16, 1995 (60 FR 53567, October 16, 1995). Implementation of any program to restrict access in the Atlantic group king mackerel fishery would require: preparation of an amendment to the FMP and publication of a notice of availability of the amendment with a comment period, publication of a proposed rule with a public comment period, approval of the amendment, and issuance of a final implementing rule.

Consideration of a control date does not commit the SAFMC, the GMFMC, or NMFS to any particular management regime or criteria for entry into the commercial Atlantic group king mackerel fishery. Fishermen are not guaranteed future participation in a fishery regardless of their entry date or intensity of participation in the fishery before or after the control date under consideration. Use of the June 15, 2004 control date in future management actions would mean anyone entering the fishery after that date would not be assured of future access. Nevertheless, even fishermen who are permitted prior to the June 15, 2004 control date are not guaranteed future participation in the fishery. The SAFMC may choose to give variably weighted consideration to fishermen active in the fishery before and after the control date. Other qualifying criteria, such as documentation of landings and sales, may be applied for entry into the fishery. The SAFMC subsequently may choose a different control date or they may choose a management regime without using a control date. The SAFMC also may choose to take no further action to control entry or access to the fishery, in which case the control date may be rescinded.

Authority: 16 U.S.C. 1801 et seq.

Dated: November 29, 2006.
Samuel D. Rauch III,
Deputy Assistant Administrator for Regulatory Programs, National Marine Fisheries Service.

[FR Doc. E6-20588 Filed 12-4-06; 8:45 am]

BILLING CODE 3510-22-S